DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Survey of Business Owners and Self-Employed Persons (SBO) Pretest.

Form Number(s): SBO-1, SBO-2.

Agency Approval Number: None.

Type of Request: New collection.

Burden: 2,500 hours.

Number of Respondents: 10,000.

Avg Hours Per Response: 15 minutes.

Needs and Uses: The Census Bureau requests Office of Management and Budget approval to conduct a pretest of the 2002 Survey of Business Owners and Self-Employed Persons (SBO), previously known as the Survey of Minority-Owned Business Enterprises and the Survey of Women-Owned Business Enterprises (SMOBE/SWOBE). The SBO is conducted as part of the economic census program which is required by law to be taken every 5 years under Title 13 of the United States Code, Sections 131 and 193. The 2002 SBO will collect data on the race, gender, and ethnicity for the person(s) owning the majority of rights, equity, or interest in businesses which reported any business activity on any one of the following Internal Revenue Service tax forms: 1040 (Schedule C), Profit or Loss from Business (Sole Proprietorship); 1065, U.S. Partnership Return of Income; or any one of the 1120 corporate tax forms. These data are needed to evaluate the extent and growth of business ownership by minorities and women in order to provide a framework for assessing and directing Federal, state, and local government programs designed to promote the activities of disadvantaged groups.

The pretest is needed to test several significant changes to the questionnaire since previously conducted and the impact these changes will have on the estimates. The pretest is critical to assuring that the form can be completed by business owners with minimal burden and that the survey will provide meaningful, useful information.

Affected Public: Businesses or other for-profit.

Frequency: One time.

Respondent's Obligation: Voluntary.

Legal Authority: Title 13 U.S.C., Sections 131 and 193.

OMB Desk Officer: Susan Schechter, (202) 395-5103.

Copies of the above information collection proposal can be obtained by calling or writing Madeleine Clayton, Departmental Paperwork Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: October 12, 2001.
Madeleine Clayton,
Departmental Paperwork Clearance Officer, Office of the Chief Information Officer.

[FR Doc. 01-26111 Filed 10-16-01; 8:45 am]

BILLING CODE 3510-07-P